ENVIRONMENTAL PROTECTION AGENCY

[ER-FRL-6682-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060352, ERP No. D-COE-K39099-CA, Berth 97-109 Container Terminal Project, Proposed New Wharves, Dredging Backlands Development, Improvements to the Terminal Entrance, and Bridges Connecting Berths 97-109 with Berths 121-131, Port of Los Angeles, Los Angeles, CA.

Summary: EPA expressed environmental concern about air quality, noise, and visual impacts, and requested additional mitigation measures to reduce the above impacts.

Rating EC2

EIS No. 20060376, ERP No. D-FHW-L59002-AK, Knik Arm Crossing Project, To Provide Improved Access between the Municipality of Anchorage and Matanuska-Susitna Borough, AK.

Summary: EPA has environmental objections to the proposed project because of potential impacts to aquatic resources, critically depleted beluga whales, and essential fish habitat. EPA also objects to the unmitigated environmental and socio-economic effects on the Mat-Su Borough, the Tribes, and the citizenry at large from potential dispersed development. EPA recommends the development of additional alternatives for consideration.

Rating EO2

EIS No. 20060438, ERP No. D-VAD-K11116-CA, Fort Rosecrans National Cemetery Annex, Construction and Operation, Located at Marine Corps Air Station (MCAS) Miramar, Point Loma, San Diego County, CA.

Summary: EPA expressed environmental concerns about impacts to biological resources; and recommended additional compensation be provide for these impacts.

Rating EC2

EIS No. 20060411, ERP No. DS-COE-G11035-00, PROGRAMMATIC—Fort Bliss Texas and New Mexico Mission and Master Plan, To Modify Current Land Use, EL Paso, TX and Dona Ana and Otero Counties, NM.

Summary: EPA does not object to the preferred alternative.

Rating LO

EIS No. 20060436, ERP No. DS-FHW-F40430-IN, U.S.-31 Kokomo Corridor Project, Updated Information on Alternative J, Transportation Improvement between IN-26 and U.S. 35 Northern Junction, City of Kokomo and Center Township, Howard and Tipton Counties, IN.

Summary: EPA has environmental concerns about the newly evaluated alternative because of potential impacts to wetlands, streams and water quality, drinking water supplies, upland forest and wildlife habitat.

Rating EC2

EIS No. 20060464, ERP No. DS-AFS-J65440-MT, Northeast Yaak Project, Additional Documentation of Cumulative Effects Analysis, Proposed Harvest to Reduce Fuels in Old Growth, Implementation, Kootena National Forest, Three Rivers Ranger District, Lincoln County, MT.

Summary: EPA supports project objectives to reduce impacts of roads on streams and fisheries, and wildlife as well as and implementation of road restoration work; however, EPA continues to have concerns about a proposed road opening to motorized travel with potential adverse impacts to water quality and wildlife habitat.

Rating EC2

Final EISs

EIS No. 20060005, ERP No. F-BLM-J02047-WY, Jonah Infill Drilling Project, Propose to Expand Development of Natural Gas Drilling, Sublette County, WY.

Summary: EPA's concerns about impacts to air quality, water quality, and riparian habitat were addressed; therefore, EPA does not object to the proposed action.

EIS No. 20060389, ERP No. F-AFS-K65299-CA, Slapjack Project, Protect Rural Communities from Fire Hazards by Constructing Defensible Fuel Profile Zones (DFPZS), Feather River Ranger District, Plumas National Forest, Butte and Yuba Counties, CA.

Summary: EPA continues to have environmental concerns about cumulative watershed effects. In addition, we suggest including closure and decommissioning of roads not likely to be designated in the OHV that are impacting water quality. EPA also suggest the ROD include less disturbing logging methods and modification of Defensible Fuel Profile Zone (DFPZ) design to minimize additional soil disturbance to the maximum extent feasible.

EIS No. 20060407, ERP No. F-NPS-L65492-WA, Ebey's Landing National Historical Reserve General Management Plan, Implementation, Town of Coupeville, Island County, WA.

Summary: No formal comment letter sent to the preparing agency.

EIS No. 20060432, ERP No. F-NRC-F06029-MI, GENERIC—License Renewal of Nuclear Plants, Supplement 27 to NUREG-1437, Regarding Palisade Nuclear Plant (TAC NO. MC6434), Located in Covert Township, Van Buren County, MI.

Summary: EPA continues to have environmental concern about methods and documentation related to risk estimates.

EIS No. 20060435, ERP No. F-COE-K39097-AZ, Rio Salado Oeste Project, Ecosystem Restoration along the Salt River, City of Phoenix, Maricopa County, AZ.

Summary: No formal comment letter was sent to the preparing agency.

EIS No. 20060442, ERP No. F-BLM-L65500-ID, Coeur d'Alene Resource Management Plan, Implementation, Benewah, Bonner, Boundary, Kootenai and Shoshone Counties, ID.

Summary: No formal comment letter was sent to the preparing agency.

EIS No. 20060448, ERP No. F-TVA-E39057-00, Nolichucky Reservoir Flood Remediation Project, To Identify and Evaluate Ways to Address Flooding Effects of Nolichucky Dam and the Accumulated Sediment in Nolichucky Reservoir on Land and Property Not Owned by the Federal Government, NPDES Permit and U.S. COE Section 404 Permit, Cocke, Greene, Hamblen, Jefferson, Unicoi, Washington Counties, TN and Avery, Mitchell, Yancey Counties, NC.

Summary: EPA expressed environmental concern because the preferred No Action Alternative would maintain current wetlands in the reservoir, and it would not improve reservoir values or reduce flooding of private lands. EPA recommends that the ROD provide additional rationale on TVA's preference for Alternative A.

EIS No. 20060453, ERP No. F-FHW-K40252-CA, Willits Freeway Bypass Project, Construction and Operation of a New Segment of U.S. 101, COE Section 404 Permit, NPDES Permit and Endangered Species Act (Incidental Take Permit), City of Willits, Mendocino County, CA.

Summary: EPA continues to have environmental concerns about impacts to aquatic resources, and recommends that FHWA consult with resource and regulatory agencies during the development of the final mitigation plan.

EIS No. 20060456, ERP No. F-IBR-K28031-CA, Contra Costa Water District Alternative Intake Project, To Protect and Improve the Quality of Water Deliver to Untreated and Treated-Water Customers, Contra Costa County, CA.

Summary: No formal comment letter was sent to the preparing agency.

EIS No. 20060458, ERP No. F-AFS-J65462-00, Custer National Forest Weed Management, To Implement Specific Invasive Weed Treatments, Carbon, Stillwater, Sweetgrass, Park, Powder River, Rosebud and Carter Counties, MT and Harding County, SD.

Summary: EPA does not object to the proposed action and supports the expanded integrated weed management program.

EIS No. 20060496, ERP No. F-SFW-E99015-AL, Gulf Highlands Condominium and Beach Club West Residential/Recreational Condominium Projects, Application for Two Incidental Take Permits for the Construction and Occupancy, Fort Morgan Peninsula, Baldwin County, AL.

Summary: EPA does not object to the preferred alternative.

Dated: December 19, 2006.
Robert W. Hargrove,
Director, NEPA Compliance Division, Office of Federal Activities.

[FR Doc. E6-21971 Filed 12-21-06; 8:45 am]

BILLING CODE 6560-50-P